DEPARTMENT OF HOMELAND SECURITY

Federal Emergency Management Agency

[Docket ID FEMA-2019-0002; Internal Agency Docket No. FEMA-B-1917]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: Yavapai | City of Cottonwood (18-09-1452P) | The Honorable Tim Elinski, Mayor, City of Cottonwood, 827 North Main Street, Cottonwood, AZ 86326 | Department of Public Works, 1490 West Mingus Avenue, Cottonwood, AZ 86326 | https://msc.fema.gov/portal/advanceSearch | Jun. 27, 2019 | 040096
Colorado:
Garfield | City of Glenwood Springs (19-08-0116P) | The Honorable Michael Gamba, Mayor, City of Glenwood Springs, 101 West 8th Street, Glenwood Springs, CO 81601 | Engineering Department, 101 West 8th Street, Glenwood Springs, CO 81601 | https://msc.fema.gov/portal/advanceSearch | Jun. 11, 2019 | 080071
Garfield | Unincorporated areas of Garfield County (19-08-0116P) | The Honorable John Martin, Chairman, Garfield County Board of Commissioners, 108 8th Street, Suite 101, Glenwood Springs, CO 81601 | Garfield County Courthouse, 109 8th Street, Glenwood Springs, CO 81601 | https://msc.fema.gov/portal/advanceSearch | Jun. 11, 2019 | 080205
Florida:
Bay | Unincorporated areas of Bay County (18-04-4009P) | The Honorable William Dozier, Chairman, Bay County Board of Commissioners, 840 West 11th Street, Panama City, FL 32401 | Bay County Planning and Zoning Department, 840 West 11th Street, Panama City, FL 32401 | https://msc.fema.gov/portal/advanceSearch | Jun. 11, 2019 | 120004
Monroe | City of Key West (19-04-0349P) | The Honorable Teri Johnston, Mayor, City of Key West, P.O. Box 1409, Key West, FL 33041 | City Hall, 1300 White Street, Key West, FL 33041 | https://msc.fema.gov/portal/advanceSearch | Jun. 12, 2019 | 120168
Monroe | Unincorporated areas of Monroe County (19-04-0349P) | The Honorable Sylvia Murphy, Mayor, Monroe County Board of Commissioners, 102050 Overseas Highway, Suite 234, Key Largo, FL 33037 | Monroe County Building Department, 2798 Overseas Highway, Suite 300, Marathon, FL 33050 | https://msc.fema.gov/portal/advanceSearch | Jun. 12, 2019 | 125129
Orange | Unincorporated areas of Orange County (18-04-3127P) | The Honorable Teresa Jacobs, Mayor, Orange County, 201 South Rosalind Avenue, 5th Floor, Orlando, FL 32801 | Orange County Stormwater Division, 4200 South John Young Parkway, Orlando, FL 32839 | https://msc.fema.gov/portal/advanceSearch | Jun. 11, 2019 | 120179
Orange | Unincorporated areas of Orange County (18-04-6487P) | The Honorable Teresa Jacobs, Mayor, Orange County, 201 South Rosalind Avenue, 5th Floor, Orlando, FL 32801 | Orange County Stormwater Division, 4200 South John Young Parkway, Orlando, FL 32839 | https://msc.fema.gov/portal/advanceSearch | Jul. 5, 2019 | 120179
Orange | Unincorporated areas of Orange County (19-04-0061P) | The Honorable Teresa Jacobs, Mayor, Orange County, 201 South Rosalind Avenue, 5th Floor, Orlando, FL 32801 | Orange County Stormwater Division, 4200 South John Young Parkway, Orlando, FL 32839 | https://msc.fema.gov/portal/advanceSearch | Jun. 12, 2019 | 120179
Pasco | Unincorporated areas of Pasco County (18-04-4034P) | Mr. Dan Biles Administrator, Pasco County, 8731 Citizens Drive, Suite 340, New Port Richey, FL 34654 | Pasco County, Dade City Record Center, 38301 McDonald Street, Dade City, FL 33525 | https://msc.fema.gov/portal/advanceSearch | Jun. 27, 2019 | 120230
Pennsylvania:
Huntingdon | Township of Smithfield (18-03-2287P) | The Honorable Doyland Gladfelter, Chairman, Township of Smithfield Board of Supervisors, 202 South 13th Street, Suite 3, Huntingdon, PA 16652 | Code Enforcement Department, 202 South 23rd Street, Suite 3, Huntingdon, PA 16652 | https://msc.fema.gov/portal/advanceSearch | Jun. 11, 2019 | 420494
Montgomery | Borough of Ambler (18-03-1837P) | The Honorable Frank DeRuosi, President, Borough of Ambler Council, 131 Rosemary Avenue, Ambler, PA 19002 | Borough Hall, 131 Rosemary Avenue, Ambler, PA 19002 | https://msc.fema.gov/portal/advanceSearch | Jul. 8, 2019 | 420947
Montgomery | Township of Upper Dublin (18-03-1837P) | The Honorable Ira S. Tackel, President, Township of Upper Dublin Board of Commissioners, 801 Loch Alsh Avenue, Fort Washington, PA 19034 | Township Hall, 801 Loch Alsh Avenue, Fort Washington, PA 19034 | https://msc.fema.gov/portal/advanceSearch | Jul. 8, 2019 | 420708
South Dakota: Minnehaha | City of Sioux Falls (18-08-1114P) | The Honorable Paul TenHaken, Mayor, City of Sioux Falls, 224 West 9th Street, Sioux Falls, SD 57104 | Planning and Building Services Department, 224 West 9th Street, Sioux Falls, SD 57104 | https://msc.fema.gov/portal/advanceSearch | Jun. 14, 2019 | 460060
Texas:
Bexar | City of San Antonio (18-06-2159P) | The Honorable Ron Nirenberg, Mayor, City of San Antonio, P.O. Box 839966, San Antonio, TX 78283 | Transportation and Capitol Improvements Department, Storm Water Division, 1901 South Alamo Street, 2nd Floor, San Antonio, TX 78204 | https://msc.fema.gov/portal/advanceSearch | May 13, 2019 | 480045
Bexar | City of San Antonio (18-06-2478P) | The Honorable Ron Nirenberg, Mayor, City of San Antonio, P.O. Box 839966, San Antonio, TX 78283 | Transportation and Capitol Improvements Department, Storm Water Division, 1901 South Alamo Street, 2nd Floor, San Antonio, TX 78204 | https://msc.fema.gov/portal/advanceSearch | May 13, 2019 | 480045
Bexar | City of San Antonio (18-06-3206P) | The Honorable Ron Nirenberg, Mayor, City of San Antonio, P.O. Box 839966, San Antonio, TX 78283 | Transportation and Capitol Improvements Department, Storm Water Division, 1901 South Alamo Street, 2nd Floor, San Antonio, TX 78204 | https://msc.fema.gov/portal/advanceSearch | Apr. 29, 2019 | 480045
Bexar | Unincorporated areas of Bexar County (18-06-3206P) | The Honorable Nelson W. Wolff, Bexar County Judge, 101 West Nueva Street, 10th Floor, San Antonio, TX 78205 | Bexar County Public Works Department, 233 North Pecos-La Trinidad Street, Suite 420, San Antonio, TX 78207 | https://msc.fema.gov/portal/advanceSearch | Apr. 29, 2019 | 480035
Dallas | City of DeSoto (18-06-3315P) | The Honorable Curtistene Smith McCowan, Mayor, City of DeSoto, 211 East Pleasant Run Road, DeSoto, TX 75115 | Engineering Department, 211 East Pleasant Run Road, DeSoto, TX 75115 | https://msc.fema.gov/portal/advanceSearch | May 3, 2019 | 480172
Dallas | City of Garland (18-06-2735P) | The Honorable Lori Barnett Dodson, Mayor, City of Garland, 200 North 5th Street, Garland, TX 75040 | City Hall, 800 Main Street, Garland, TX 75040 | https://msc.fema.gov/portal/advanceSearch | May 13, 2019 | 485471
Fort Bend | Unincorporated areas of Fort Bend County (18-06-2990P) | The Honorable K. P. George, Fort Bend County Judge, 401 Jackson Street, Richmond, TX 77469 | Fort Bend County Engineering Department, 301 Jackson Street, Richmond, TX 77469 | https://msc.fema.gov/portal/advanceSearch | May 16, 2019 | 480228
Harris | Unincorporated areas of Harris County (18-06-2625P) | The Honorable Lina Hidalgo, Harris County Judge, 1001 Preston Street, Suite 911, Houston, TX 77002 | Harris County Permits Office, 10555 Northwest Freeway, Suite 120, Houston, TX 77092 | https://msc.fema.gov/portal/advanceSearch | Jun. 17, 2019 | 480287
Hays | City of Kyle (18-06-1606P) | The Honorable Travis Mitchell, Mayor, City of Kyle, 100 West Center Street, Kyle, TX 78640 | Building Department, 100 West Center Street, Kyle, TX 78640 | https://msc.fema.gov/portal/advanceSearch | May 16, 2019 | 481108
Hays | Unincorporated areas of Hays County (18-06-1606P) | The Honorable Debbie Ingalsbe, Acting Hays County Judge, 111 East San Antonio Street, Suite 300, San Marcos, TX 78666 | Hays County Development Services Department, 2171 Yarrington Road, Suite 100, Kyle, TX 78640 | https://msc.fema.gov/portal/advanceSearch | May 16, 2019 | 480321
Kerr | City of Kerrville (18-06-2862P) | The Honorable Bill Blackburn, Mayor, City of Kerrville, 701 Main Street, Kerrville, TX 78028 | Engineering Department, 200 Sidney Baker Street, Kerrville, TX 78028 | https://msc.fema.gov/portal/advanceSearch | May 13, 2019 | 480420
Webb | Unincorporated areas of Webb County (19-06-0140X) | The Honorable Tano E. Tijerina, Webb County Judge, 1000 Houston Street, 3rd Floor, Laredo, TX 78040 | Webb County Planning Department, 1110 Washington Street, Suite 302, Laredo, TX 78040 | https://msc.fema.gov/portal/advanceSearch | Apr. 25, 2019 | 481059
Utah: Iron | City of Cedar City (18-08-0285P) | The Honorable Maile Wilson Edwards, Mayor, City of Cedar City, 10 North Main Street, Cedar City, UT 84720 | Engineering Department, 10 North Main Street, Cedar City, UT 84720 | https://msc.fema.gov/portal/advanceSearch | Jun. 13, 2019 | 490074

[FR Doc. 2019-06684 Filed 4-4-19; 8:45 am]

BILLING CODE 9110-12-P